ENVIRONMENTAL PROTECTION AGENCY

40 CFR Part 52

[EPA-R09-OAR-2013-0599; FRL-9909-16-Region 9]

Approval and Promulgation of Implementation Plans; California San Francisco Bay Area and Chico Nonattainment Areas; Fine Particulate Matter Emissions Inventories; Correction

AGENCY: Environmental Protection Agency (EPA).

ACTION: Direct final rule; correction.

SUMMARY: The Environmental Protection Agency (EPA) published a direct final rule that appeared in the Federal Register on March 14, 2014. The document approved revisions to the California State Implementation Plan (SIP) concerning emissions inventories for the 2006 24-hour fine particle National Ambient Air Quality Standard (NAAQS) for the San Francisco Bay Area and Chico PM2.5 nonattainment areas. We are approving these emissions inventories under the Clean Air Act (CAA or the Act). An error in the amendatory instruction is identified and corrected in this action.

DATES: This rule is effective on May 13, 2014 without further notice.

ADDRESSES: Docket: Generally, documents in the docket for this action are available electronically at www.regulations.gov and in hard copy at EPA Region IX, 75 Hawthorne Street, San Francisco, California 94105-3901. While all documents in the docket are listed at www.regulations.gov, some information may be publicly available only at the hard copy location (e.g., copyrighted material, large maps), and some may not be publicly available in either location (e.g., CBI). To inspect the hard copy materials, please schedule an appointment during normal business hours with the contact listed in the FOR FURTHER INFORMATION CONTACT section.

FOR FURTHER INFORMATION CONTACT: Lisa Tharp, EPA Region IX, (415) 947-4142, tharp.lisa@epa.gov.

SUPPLEMENTARY INFORMATION: EPA published a direct final rule on March 14, 2014 (79 FR 14404) approving revisions to the California State Implementation Plan (SIP) concerning emissions inventories. In that approval EPA erroneously added the incorrect paragraph numbers to § 52.220, paragraph (c). Therefore the amendatory instruction is being corrected to reflect the corrected section paragraph numbering.

Correction

In the direct final rule published in the Federal Register on March 14, 2014 (79 FR 14404), the following corrections are made:

1. On page 14409, third column, line 2 of amendatory instruction number 2, correct “adding paragraphs (c)(434) and (435) to” to read “adding paragraphs (c)(435) and (436) to”;

2. On page 14409, third column, third line under the section heading § 52.220 Identification Plan, correct paragraph number “(434)” to read “(435)”; and

3. On page 14409, third column, line twenty-two under the section heading § 52.220 Identification Plan, correct paragraph number “(435)” to read “(436)”.

Dated: April 18, 2014.
Jared Blumenfeld,
Regional Administrator, EPA Region IX.

[FR Doc. 2014-09721 Filed 5-1-14; 8:45 am]

BILLING CODE 6560-50-P